DEPARTMENT OF TRANSPORTATION

Federal Highway Administration

Environmental Impact Statement: Kootenai County, ID

AGENCY: Federal Highway Administration, (FHWA), DOT.

ACTION: Notice of Intent.

SUMMARY: The FHWA is issuing this notice to advise the public that an environmental impact statement will be prepared for a proposed highway project in Kootenai County, Idaho.

FOR FURTHER INFORMATION CONTACT: Mr. Edwin B. Johnson, Field Operations Engineer, Federal Highway Administration, 3050 Lake Harbor Lane, Suite 126, Boise, Idaho 83703, Telephone: (208) 334-9180; or Mr. David Karsann, Senior Environmental Planner, Idaho Transportation Department, District 1 Office, 600 West Prairie, Coeur d'Alene, ID 83815.

SUPPLEMENTARY INFORMATION: The FHWA, in cooperation with the Idaho Transportation Department, will prepare an environmental impact statement (EIS) on a proposal to improve Interstate 90 (I-90) in Kootenai County, Idaho. The proposed improvements would involve access and mobility enhancements on I-90 between the Spokane Street west terminus interchange (approximately milepost (MP) 4.3) and State Highway (SH) 41 east terminus interchange (approximately MP 7.6) for a distance of about three (3) miles.

The purpose of this project is to provide transportation system solutions on the I-90 corridor, from the Spokane Street Interchange through the SH 41 Interchange, that will enhance access and cross-freeway mobility, improve traffic operations within the corridor and provide safe and efficient movement of people, goods and services, while giving full consideration to local roads as primary transportation corridors. This project is needed because congestion and safety concerns are rising within the project corridor and travel times for local and through traffic have increased. These conditions have arisen from increased and projected regional travel demand due to planned community growth, limited local city street connectivity to and across I-90, and mobility limitations at existing interchanges.

Ten alternatives under consideration include (a) taking no action, (b) applying enhanced Transportation Systems and Transportation Demand Management methods on existing transportation systems, (c) Transit, and (d) seven combinations of actions that combine some or all of the following: Interchange modifications at the Spokane Street Interchange, interchange modifications at the SH 41 Interchange, expansion of SH 41 to six lanes; interchange modifications at the Seltice Way Interchange, a new interchange or an I-90 grade separation at Greensferry Road, an I-90 grade separation at Syringa Street, applying access management on Seltice Way, and auxiliary lanes and/or collector distributor roads on I-90 from the Spokane Street Interchange to the SH 41 Interchange.

Letters describing the proposed action and soliciting comments will be sent to appropriate Federal, State, and local agencies, and to provide organizations and citizens who have previously expressed or are known to have interest in this proposal. A series of public meetings will be held in Post Falls. A scoping meeting will be noticed and held in Post Falls. In addition, a public hearing will be held. Public notice will be given of the time and place of the meetings and hearing. The draft EIS will be available for public and agency review and comment prior to the public hearing.

To ensure that the full range of issues related to this proposed action are addressed and all significant issues identified, comments, and suggestions are invited from all interested parties. Comments or questions concerning this proposed action and the EIS should be directed to the FHWA or ITD at the address provided above.

Authority: 23 U.S.C. 315; 23 CFR 771.123; 49 CFR 1.48.

(Catalog of Federal Domestic Assistance Program Number 20.205, Highway Research, Planning, and Construction. The regulations implementing Executive Order 12372 regarding intergovernmental consultation on Federal programs and activities apply to the program.)

Issued on: May 4, 2005.
Renee Sigel,
Assistant Division Administrator, Federal Highway Administration, Boise, Idaho.

[FR Doc. 05-10608 Filed 5-26-05; 8:45 am]

BILLING CODE 4910-22-M